FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Interagency Bank Merger Act Application (FR 2070; OMB No. 7100-0171).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Interagency Bank Merger Act Application.

Collection identifier: FR 2070.

OMB control number: 7100-0171.

General description of collection: The Board, Office of the Comptroller of the Currency, and Federal Deposit Insurance Corporation each use this reporting form to collect information on depository institution merger proposals that require prior approval under the Bank Merger Act. The Board collects the information gathered by the FR 2070 so that it may meet its statutory obligations with respect to each merger proposal in which the acquiring, assuming, or resulting bank would be a state member bank (SMB).

Frequency: Event-generated.

Respondents: SMBs regulated by the Board.

Total estimated number of respondents: 65.

Total estimated annual burden hours: 2,183.

Current actions: On January 29, 2024, the Board published a notice in the Federal Register (89 FR 5542) requesting public comment for 60 days on the extension, without revision, of the FR 2070. The comment period for this notice expired on March 29, 2024. The Board did not receive any comments.

Board of Governors of the Federal Reserve System, June 4, 2024.
Benjamin W. McDonough,
Deputy Secretary and Ombuds of the Board.

[FR Doc. 2024-12498 Filed 6-6-24; 8:45 am]

BILLING CODE 6210-01-P